DEPARTMENT OF COMMERCE

National Oceanic and Atmospheric Administration

15 CFR Part 902

50 CFR Part 679

[Docket No. 140113040-4919-02]

RIN 0648-BD90

Fisheries of the Exclusive Economic Zone off Alaska; Monitoring and Enforcement; At-Sea Scales Requirements

AGENCY: National Marine Fisheries Service (NMFS), National Oceanic and Atmospheric Administration (NOAA), Commerce.

ACTION: Final rule.

SUMMARY: NMFS issues regulations to revise the at-sea scales program for catcher/processor vessels (C/Ps) and motherships that are required to weigh catch at sea. This action makes three major changes to current regulations. First, this action requires enhancements of daily scale testing for flow scales used to weigh catch at sea and requires electronic reporting of the daily flow scale test results. Second, this action requires that vessels required to use flow scales to weigh catch have electronics capable of logging and printing the frequency and magnitude of scale calibrations, as well as the time and date of each scale fault (or error) and scale startup. Third, this action requires that vessels use video to monitor the flow scale and the area around the flow scale. In addition, this action revises minor technical regulations related to equipment and operation regulations and removes certain regulations that are no longer applicable; and improves the accuracy of catch estimation by the C/Ps and motherships using at-sea scales and reduces the possibility of scale tampering. This action is intended to promote the goals and objectives of the Fishery Management Plan for Groundfish of the Bering Sea and Aleutian Islands Management Area, the Fishery Management Plan for Groundfish of the Gulf of Alaska, the Magnuson-Stevens Fishery Conservation and Management Act, and other applicable laws.

DATES: Effective December 18, 2014.

ADDRESSES: Electronic copies of the proposed rule, the Categorical Exclusion and the Regulatory Impact Review (Analysis) prepared for this action may be obtained from http://www.regulations.gov or from the NMFS Alaska Region Web site at http://alaskafisheries.noaa.gov. An electronic copy of the Guidelines for Economic Review of National Marine Fisheries Service Regulatory Actions may be obtained from http://www.nmfs.noaa.gov/sfa/domes_fish/EconomicGuidelines.pdf.

Written comments regarding the burden-hour estimates or other aspects of the collection-of-information requirements contained in this final rule may be submitted by mail to NMFS, Alaska Region, P.O. Box 21668, Juneau, AK 99802-1668, Attn: Ellen Sebastian, Records Officer; in person at NMFS, Alaska Region, 709 West 9th Street, Room 420A, Juneau, Alaska; and by email to OIRA_Submission@omb.eop.gov, or by fax to 202-395-7285.

FOR FURTHER INFORMATION CONTACT: Jennifer Watson, 907-586-7228.

SUPPLEMENTARY INFORMATION: NMFS manages the U.S. groundfish fisheries of the exclusive economic zone off Alaska under the Fishery Management Plan for Groundfish of the Gulf of Alaska and the Fishery Management Plan for Groundfish of the Bering Sea and Aleutian Islands Management Area. The fishery management plans (FMPs) were prepared by the North Pacific Fishery Management Council and approved by the Secretary of Commerce under authority of the Magnuson-Stevens Fishery Conservation and Management Act, 16 U.S.C. 1801 et seq. (Magnuson-Stevens Act). The FMPs are implemented by regulations at 50 CFR parts 679 and 680.

Background

The use of at-sea scales can provide precise and accurate groundfish catch estimates. At-sea scales are now used to account for the vast majority of catch by C/Ps and motherships fishing off Alaska. The at-sea scales program was developed in the mid-1990s to provide catch accounting methods for vessels, specifically C/Ps, that were more precise and verifiable and less dependent on estimates generated by at-sea observers. Improved catch estimation was necessary because of the implementation of large-scale catch share programs. Catch share programs require NMFS to provide verifiable and precise estimates of quota harvest. Because catch share programs limit vessel operators to specific amounts of catch, vessel operators may have an incentive to underreport catch and then fish beyond specific catch limits. A method for independently verifying catch, such as a requirement to weigh catch on a scale, reduces the vessel operator's ability to underreport catch.

Because C/Ps and motherships do not deliver their catch onshore where land-based scales can be used, catch must be weighed at sea. The requirements for weighing catch at sea were first implemented in 1998, and subsequently expanded to nearly all C/Ps operating off Alaska and motherships operating in the Bering Sea pollock fishery. Since 1998, the at-sea scales program has grown significantly, from fewer than 20 to more than 60 participating vessels today.

Since the at-sea scales program was first implemented in 1998, there have been substantial improvements in scale technology, NMFS has developed greater expertise with at-sea scales, and vessels are able to communicate more quickly and easily with NMFS while at sea. In addition, when at-sea scales regulations were first implemented in 1998, none of the vessels that were required to use scales had onboard video systems. Now, most of the vessels subject to at-sea scales requirements are required to use video monitoring to monitor the flow of catch. Collectively, these advancements in technology and expertise provide opportunities for NMFS to improve scale accuracy, monitoring, and reporting.

Recently, enforcement concerns have been raised about compliance with at-sea scales regulations. These enforcement concerns indicate that catch estimates based on inaccurate scale weights could systematically underestimate harvests in fisheries using scale weights for catch accounting. Modifications to the at-sea scales program will reduce the potential for scale tampering, improve catch accounting accuracy, and bring regulations up to date with current technology.

Actions Implemented by Rule

The proposed rule for this action was published in the Federal Register on July 31, 2014 (79 FR 44372). The 30-day comment period on the proposed rule ended September 2, 2014. The regulatory provisions implemented by this action are summarized here. Additional information and a description of this action are provided in detail in the preamble to the proposed rule and are not repeated here.

This action affects the owners and operators of the following C/Ps and motherships that are required to weigh catch at sea:

• Trawl C/Ps permitted for pollock in the Bering Sea and Aleutian Islands (BSAI) under the American Fisheries Act (AFA);

• motherships permitted to receive deliveries of pollock in the BSAI under the AFA;

• trawl C/Ps permitted to fish for groundfish under Amendment 80 to the BSAI FMP;

• trawl C/Ps permitted to fish for rockfish in the Central Gulf of Alaska (GOA);

• longline C/Ps with a license limitation program license endorsed for C/P operations that fish for Pacific cod using hook-and-line gear in the Bering Sea (BS) or Aleutian Islands areas; and

• C/Ps that harvest catch in the BSAI under the Multispecies Community Development Quota (MS-CDQ) Program.

All C/Ps and motherships that harvest catch in the BSAI under the MS-CDQ Program are subject to the same requirements as all other vessels that are required to weigh groundfish catch at sea under this action. This action is consistent with section 305(i)(1)(B)(iv) of the Magnuson-Stevens Act, which requires that Community Development Quota (CDQ) fisheries “shall be regulated by the Secretary [NMFS] in a manner no more restrictive than for other participants in the applicable sector.”

This action implements three major and several minor technical changes to at-sea scale regulations. First, this action changes daily scale test methods for flow scales used to weigh catch at sea and requires electronic reporting of daily flow scale test results. These changes will improve the accuracy of flow scale estimates, and allow NMFS to monitor and correct potential bias in scale estimates. Second, this action requires that flow scales used to weigh catch be capable of logging and printing the frequency and magnitude of scale calibrations relative to previous calibrations as well as the time and date of each scale fault (or error) and scale startup. These changes will allow NMFS to monitor adjustments to the flow scale made by vessel crew. This will help NMFS detect and address the accidental or intentional flow scale weight biasing. Third, this action requires that the area around the flow scale be monitored by video. This action will enhance NMFS' ability to detect vessel crew activities that could bias or adversely affect flow scale operations. Overall, this action will improve the accuracy of catch estimation by the C/Ps and motherships using at-sea scales and reduce the possibility of scale tampering.

This action also revises and consolidates the technical video requirements for fleets currently required to use video monitoring. Doing so will reduce confusion and prevent inconsistent compliance with the new video monitoring requirements. Finally, this action makes nine minor revisions to the equipment and operational regulations that, among other changes, remove regulations that are no longer applicable, clarify or add processes to request scale inspections or changes to equipment, and clarify other related requirements.

Comments and Responses

NMFS received five comment letters containing 15 distinct comments on the proposed rule. A summary of the relevant comments and NMFS' responses follows. Two technical corrections were made to the proposed rule as a result of these comments.

Comment 1: The commenter supports the use of at-sea scales and recognizes the need to update aging at-sea scales technology to ensure accurate data.

Response: NMFS acknowledges the comment. Since NMFS first implemented at-sea scales requirements for some C/Ps in 1998, the program has grown dramatically, scale technologies have evolved, and NMFS has developed greater expertise with at-sea scales. The suite of modifications to the at-sea scales program will reduce the potential for fraud, improve catch account accuracy, and bring regulations up to date with improvements in technology.

Comment 2: The commenter states that NMFS has cited a series of flow scale fraud cases as one of the reasons for changes to the at-sea scales requirements. Not all vessels using flow scales have been charged with fraud, so new regulations are unnecessary for many vessels.

Response: NMFS agrees that not all vessels using flow scales have been charged with scale fraud. However, NMFS disagrees that all vessels need to have been charged with fraud before at-sea scales regulations are improved and revised. NMFS has an obligation to ensure accurate and reliable catch accounting. Documented cases of fraud have shown the accuracy and reliability of catch accounting systems can be undermined and pointed out a need for revisions and improvements to the at-sea scales program. Improving at-sea scales regulations will help NMFS ensure accurate and reliable catch accounting among all vessels and reduce the potential for additional fraud.

While reducing the potential for fraud is one of the reasons for revising the at-sea scales program, NMFS cites other reasons for revising the at-sea scales program in the problem statement for this action (see the Introduction section of the Analysis). First, the at-sea scales program has expanded from 20 vessels when it was first developed to more than 60 vessels today. This increase in the number and variety of vessel types has created the need to be more efficient with time and resources; by automating many of the tasks needed to monitor the at-sea scales program NMFS may gain these efficiencies. This final rule establishes regulations to improve the automation of many of these tasks. Second, when the at-sea scales program was first developed, NMFS did not have a direct communication link with the vessels at sea, such as the e-logbook program that is now in place. The requirement in the final rule that vessels use the e-logbook will allow daily reporting of flow scale tests to better track the accuracy of the flow scales and improve catch accounting for these programs. Third, at the time the at-sea scales program was implemented, flow scales could store only minimal data. Today, flow scales are significantly easier to program and offer much greater storage capacity. These improvements will allow NMFS to determine how well the flow scales are performing while at sea, and improve the accuracy and reliability of flow scale measurements. Finally, video technology will allow NMFS to monitor activities around the flow scales at times when an observer may not be present or is completing other duties. This final rule establishes regulations to require video monitoring technology to ensure that all fish are sorted and weighed correctly, which enhances overall catch accounting.

Comment 3: The commenter states that NMFS anticipates most of these first-generation flow scale electronics will be replaced by the time of a final rule. However, not all affected vessels were planning to update their first-generation flow scale electronics. Therefore, the assumptions and cost projections in the analysis are likely underestimated and significant.

Response: NMFS disagrees. In Section B of the Analysis NMFS acknowledges that 19 vessels of the 68 vessels regulated by this action are using first generation flow scale electronics and that 10 of these vessels were not planning to acquire new flow scale electronics prior to implementation of these regulations. Section B of the Analysis describes the estimated costs for the vessels that were not planning to upgrade to new flow scale electronics. The cost estimates were based on the difference between the cost of replacement today and the present value of replacement at the time the vessel owners would have chosen. The analysis assumes that these flow scale electronics would otherwise have had five years of additional life. The difference between the cost of replacement today and the present value of replacement in 5 years would be about $4,100 per unit, or about $41,000 for 10 units. The commenter does not present any new information that undermines NMFS' evaluation of the number of vessels or the estimated costs of compliance presented in the Analysis.

Comment 4: The commenter states that the proposed rule includes provisions that require vessel operators to invest in new software and cameras to capture additional data from the flow scale and more comprehensively monitor activity at and around the flow scale area. The proposed regulations will be onerous and expensive and are unnecessary for the vessels in the BSAI longline C/P fleet since the flow scales and cameras on these vessels are no more than a year old.

Response: NMFS disagrees. The requirements in this final rule are necessary to reduce the potential for fraud, improve catch accounting accuracy, and bring regulations up to date with improvements in technology for all C/Ps affected by this final rule. The regulations implemented in 2013 to allow the use of at-sea scales to monitor catch on BSAI longline C/Ps do not preclude NMFS from implementing additional regulatory changes to enhance the monitoring of flow scales used by these BSAI longline C/Ps (see final rule implementing revised regulations for longline C/Ps, 77 FR 59053, September 26, 2012).

Because at-sea scales have only recently been placed on longline C/Ps, the costs of compliance with this final rule are likely to be lower for longline C/Ps compared to other C/Ps. Section B of the Analysis explains that because the flow scales used on longline C/Ps are the most current generation of flow scale electronics, these vessels will not be required to purchase new flow scale electronics, but will be required to update their flow scale software. The cost of updating flow scale software is significantly lower than the costs of replacing flow scale electronics. The video monitoring requirements implemented by this action are very similar to the requirements that were implemented in 2013 to enhance the monitoring of at-sea scales used by longline C/Ps (see the final rule, 77 FR 59053, September 26, 2012). Only 7 vessels out of 30 active vessels in the longline C/P fleet will be impacted by the video monitoring requirements in this action. Section C of the Analysis explains that these 7 vessels may need to purchase an additional camera and connect them to the existing video system on the vessel.

Comment 5: The commenter states that the installation of new video monitoring systems and flow scale software, while not cost prohibitive, are nonetheless additional expenses for vessels since they will have to spend valuable time to install these systems and software while at the dock. This will leave less time to prepare the vessel for fishing.

Response: NMFS acknowledges this comment. Section C of the Analysis describes the costs and time to install the video monitoring systems and new software. The administrative costs to NMFS to approve and monitor installations also are explained in Section C. Based on past experience with video monitoring systems and flow scale software installations, NMFS anticipates most video and flow scale software installations will occur just prior to an annual inspection. NMFS usually conducts annual inspections when a vessel is already in a shipyard or after the fishery season when the vessel is already at the dock so that additional fishing time is not lost. Therefore, NMFS expects video and flow scale software installations will not reduce the fishing time available to most vessels. Flow scale software upgrades on vessels with the latest generation of flow scale electronics are not expected to take long and will likely be incorporated as part of the vessel's annual maintenance of the flow scale. However, installation of video monitoring systems by the vessel may take longer depending on the layout of a specific vessel. Personnel needed to install video monitoring systems are likely not the same personnel doing other work on board a vessel (e.g., preparing the factory) so video monitoring system installation and other vessel preparations may occur concurrently. The specific time for video installation will vary from vessel-to-vessel and depends on a range of design factors and availability of personnel to complete the installation.

Comment 6: The commenter states that the proposed regulations at § 679.28(b)(5)(v) allow vessels that have been inspected between March 1, 2014, and December 31, 2014, the ability to wait until the next annual at-sea scale inspection to meet the new fault and calibration log requirements. It is unclear if vessels that are inspected during December 2014, but that plan to begin fishing on January 20, 2015, will have to meet the new fault and calibration log requirements or if they will be able to wait until December 2015 to meet the new fault and calibration log requirements.

Response: The final rule requires fault and calibration log recording for all vessels in 2015 depending on when they received NMFS inspections during 2014. The proposed regulations at § 679.28(b)(5)(v) were intended to delay the requirements to comply with the flow scale fault and calibration log recording only for vessels for which NMFS conducted an at-sea scale inspection outside the winter scale inspection schedule (i.e., prior to December 2014). The timing of some fisheries requires NMFS to conduct some at-sea scale inspections during the spring and summer. Without a delay in the fault and calibration log requirements, these vessels would be required to have an additional at-sea scale inspection at the beginning of 2015. Requiring an additional inspection within 6 months of the last inspection will present significant logistical difficulties and increased costs for both NMFS and the vessel owners and at-sea scale providers. NMFS, however, did not intend to propose to delay implementation of the flow scale fault and calibration log requirements for vessels that NMFS normally inspects after December 1, 2014, and prior to fishing in 2015. The proposed regulations at § 679.28(b)(5)(v) mistakenly included December 31, 2014, as the last day vessels could receive an inspection and not need to comply with the flow scale fault and calibration log requirements, thus creating confusion about when vessels would need to comply with the requirements. The final rule clarifies the effective date is December 1, 2014, and not December 31, 2014. This modification clarifies that vessels that received at-sea scale inspections after March 1, 2014, and before December 1, 2014, will have to comply with the calibration log requirements and the fault log requirements at the time the flow scale is inspected by NMFS in 2015. Vessel operators that receive at-sea inspections in December 2014 will be required to comply with the new flow scale fault and calibration log requirements at the time of inspection.

Comment 7: The commenter proposes a phased-in approach to the software and flow scale electronics upgrades needed to comply with the flow scale fault and calibration log requirements for vessels using first generation flow scale electronics. The commenter states that the proposed rule already allows some flexibility for flow scales that have recently been certified. The commenter states that allowing all vessels this flexibility would amortize these significant capital expenses over several years.

Response: NMFS disagrees. This rule requires the recording of scale faults and calibrations in 2015. Vessels will need to update flow scale software to allow the recording of scale faults and calibrations. Vessels with older versions of flow scale electronics will also need to upgrade those electronics to accommodate this new software. The final rule allows vessels that were inspected after March 1, 2014, and before December 1, 2014, to delay the implementation of the new fault log and calibration log requirements until their next annual inspection during 2015 (see regulations at § 679.28(b)(5)(v)) for the reasons described in the response to Comment 6. NMFS will not further delay the requirements of this final rule beyond 2015. As stated in the problem statement of the Analysis, NMFS raised enforcement concerns about compliance with at-sea scale regulations. Inaccurate scale weights could systematically underestimate harvest in fisheries using scale weights for catch accounting. These fault and calibration log requirements and the updated software to accommodate these requirements are needed by 2015 to improve catch accounting accuracy.

The regulatory requirement to incorporate the fault and calibration logs into flow scales is an integral piece in preventing scale fraud and systematic underestimation of harvest. The fault and calibration logs will provide useful information to NMFS' Office of Law Enforcement about improper flow scale use. Additionally, the first generation flow scale electronics are nearing the end of their service life. First generation flow scale electronics are no longer sold and finding replacing parts for these scales is becoming increasingly difficult. Recent annual inspections by NMFS and inseason reports from vessels have identified problems with the maintenance and functioning of these flow scales, such as taking multiple attempts to pass both the daily tests and the annual inspection. Given these problems, NMFS expects that some of these first generation flow scale electronics would not be able to pass their future annual inspections or daily scale tests even under existing regulatory requirements. The implementation of this final rule is necessary given the recent advances in scale and software technology and the limited serviceable life of existing first generation flow scale electronics.

Comment 8: The commenter states that the regulations at § 679.28(e)(7) will require NMFS' approval for changes to a vessel's video monitoring system. However, the proposed rule is not clear about what constitutes a change that will require approval. Vessel personnel need the ability to maintain video monitoring systems during fishing operations. Regular maintenance includes replacing cameras, computers, and wiring and monitors that are no longer serviceable, and other similar tasks. NMFS should clarify what activities will require NMFS' approval.

Response: NMFS acknowledges the comment. The regulation noted by the commenter is not substantively new. Prior to the implementation of this final rule, regulations at § 679.28(i)(1)(iii)(K), (j)(4), and (k)(7) also required that changes to the video monitoring systems be approved by either NMFS or the Regional Administrator. The final rule consolidates the approval process for changes in all video monitoring programs into one regulatory provision at § 679.28(e)(7). Changes to all the video systems must now be submitted for approval to the Regional Administrator. Changes to approved video monitoring systems that must be submitted for Regional Administrator approval are those that affect the functionality of the video system, such as changing the camera view. Any video equipment replacements that allow the system to continue to function in the same manner as when it was approved by the Regional Administrator will not need to be approved. For example, replacing broken or malfunctioning components of the video system with identical parts will not be considered to affect the functionality of the system. However, moving cameras to different locations or changing video software systems could change the functionality of the video system and will need approval.

Comment 9: The commenter states that NMFS claims that the proposed regulations will improve its ability to detect fault and calibration fraud through retention of the last 1,000 faults, 1,000 calibrations and scale startups. However, the rule does not describe how and when the additional data will be used. For example, how will NMFS use data in a timely fashion to determine if fraud is occurring in real time? The assumption that collecting more data provides deterrence to intentional fraud is false if NMFS is not able to detect fraud under the current reporting requirement (last 10 faults and startups).

Response: NMFS disagrees. The current software does not have the capability to record any faults or calibrations. The current regulations only require an audit trail that records when the weighing parameters inside the flow scale software are changed. As stated in the Analysis in Section B, both miscalibrating the flow scale and frequently running the flow scale in fault mode can indicate fraudulent activity. One miscalibration or fault error may occur accidently and be quickly resolved by the vessel. By requiring the vessel to provide a printout of this information at the end of the year with the last 1,000 calibrations and 1,000 faults, NMFS can look for patterns that might suggest improper flow scale calibrations or detect significant amounts of time when the flow scale is running in fault mode. Although NMFS anticipates reviewing these data on an annual basis, NMFS staff or enforcement personnel could request this printout at any time during the year.

Comment 10: The commenter states that the proposed regulations include new provisions on flow scale tests that will require daily submission of flow scale tests to NMFS and reporting of all daily scale tests, including failed tests (see regulations at § 679.5(f)(1)(ix)). These reporting requirements will create additional burdens on vessel crew and additional work and expenditures by NMFS to review and process the data collected under the new regulations. The value of the additional data does not warrant the expense for the industry and NMFS. If NMFS is interested in all flow scale tests performed on a vessel in a day, there already exists capabilities for the observer to monitor these actions as needed. It is also likely that video monitoring could capture the activities of interest.

Response: NMFS disagrees. Video monitoring systems are unable to determine the specific results of a flow scale test. The video monitoring systems are meant to ensure that the flow scale is functioning properly (e.g., that the flow scale is not running while in a fault (error) state), ensure that all fish are being weighed, detect when crew members are working on the flow scale, and ensure that daily flow scale tests are being conducted on the required schedule and with the appropriate test weights. Observers monitor the daily flow scale test, but they are not required to report those results to NMFS.

The vessel operator is responsible for ensuring that the flow scale is in working order and passes the daily flow scale test before weighing fish. The vessel operator is also responsible for reporting those results to NMFS and maintaining the at-sea scales so that the performance error is as close to zero as practicable. By requiring electronic submission of the daily flow scale tests, NMFS is reducing the reporting requirements for the vessel overall. Although the vessel operator will be required to report all the flow scale tests performed (pass and fail), which could nominally increase the workload of the vessel operator, the vessel would be conducting these flow scale tests anyway until the flow scale passed the test, or the vessel repaired the flow scale. The information that is reported electronically is simplified compared to the paper form the vessel operators must currently complete. Under this final rule, only three blocks of information are required to be submitted to NMFS through the e-logbook: The weight of the test material on the platform scale, the weight of the material on the flow scale being tested, and the time of the test. Prior to this final rule, the vessel operator had to report 10 blocks of information through the paper form called Record of Daily Flow Scale Tests. These blocks were the vessel name, the date of test, the time of test, the weight of fish or sandbags on the platform scale, the weight of fish or sandbags on the flow scale, the calculated error of the flow scale, the calculated percent error of the flow scale, the sea conditions at the time of the test, the signature of the vessel operator, and the signature of the observer. The electronic reporting also allows data to be automatically submitted. For example, the percent error of a flow scale test is automatically calculated and entered into the report by the electronic reporting software. Also, because the reporting of the daily flow scale tests is part of the software that the majority of vessels already use to report catch and effort data daily to NMFS, no additional transmission requirements would be required for most vessel operators. Additionally, the vessel operator would only be required to sign the electronic logbook form, not both the logbook form and the daily scale test form. Finally, as the Analysis states in Section A.2, by receiving this information on a daily basis, NMFS can monitor the test results daily and identify flow scale issues immediately instead of requesting the test results at the end of the year, reviewing hundreds of paper forms, and entering the results by hand. Overall, daily reporting is likely to reduce workload and allow for errors in flow scale functions to be identified and corrected more quickly than under existing reporting requirements.

Comment 11: The commenter states that currently only two companies provide certified at-sea flow scales: Marel and Scanvaegt. However, currently Scanvaegt's flow scale will not meet the proposed requirements, eliminating competition among at-sea flow scale providers. Scanvaegt is working towards a solution that meets proposed requirements. However, NMFS should not adopt regulations that can only be met by a single vendor and should delay implementation until at-sea flow scales from additional vendors are approved.

Response: NMFS disagrees. The flow scale requirements in the final rule were developed independent of any specific scale company's available products, and any scale company could meet the requirements. Other entities, including commercial scale manufacturers other than the two noted by the commenter, could develop an at-sea flow scale that meets the requirements described in the regulations and NMFS could approve those at the time they became available. NMFS has no information to indicate that the company currently providing at-sea flow scales that meet these requirements will increase costs beyond the normal market prices that were estimated in the analysis. NMFS does not have any information to indicate when other scale manufacturers may choose to enter the market with an at-sea flow scale that meets the requirements. Flow scales that meet the requirements established in this final rule are currently available, and new manufacturers can choose to enter the market at any time. Delaying these regulations until additional scale manufacturers have entered the market is not necessary.

Comment 12: The commenter states that the proposed regulations at § 679.28(e)(1)(iv) state that “color cameras must have at a minimum 470 TV (television) lines of resolution.” There are many digital video cameras that no longer use TV lines within their specifications and have their resolution measured in pixels. Digital cameras with specific Megapixel (MP) ratings do not directly compare to TV line ratings. Some manufacturers produce video cameras that have high MP ratings but a low quality lens, which may contribute to distortion and blurriness of the image. In most cases, a digital camera will output to the equivalent of 470 TV lines so the regulations should provide an alternative standard in MP for digital cameras.

Response: NMFS disagrees. While some digital camera manufacturers may not use TV lines in their specifications, it remains the industry standard to determine video quality, and digital cameras can be tested and their resolution can be compared to a TV line standard. As the commenter mentions, a higher MP rating will not necessarily result in higher video quality. As the commenter also states, most current digital cameras are able to meet the 470 TV line standard. Because digital cameras can be tested against a TV line standard, it is not necessary to establish a new minimum MP standard in these regulations to ensure adequate video quality requirements are met.

Comment 13: The commenter states that the proposed regulations at § 679.28(e)(1)(iii) state that the video files from the video monitoring system must output to an open source format. This regulation should be rephrased to correspond with the video output formats currently provided with commercially available equipment. Most commercially available video recording software and digital video recorders do not use, or output to, open source formats; rather, they use industry-generated standards like H.264 or MPEG4. The regulations should require video data to use formats such as H.264. This revision would establish a standard data format, but allow the use of alternative data formats, provided those formats are not proprietary and meet the performance standards set forth by the video security surveillance industry.

Response: NMFS disagrees that the proposed regulations must be changed to allow the use of multiple video data formats. The final regulations at § 679.28(e)(1)(iii) state that the video monitoring system “must output video files to an open source format or the vessel owner must provide software capable of converting the output video file to an open source format or commercial software must be available for converting the output video file to an open source format.” This regulation does not require that the software must use an open source format, but instead that the software has the ability to convert to an open source format. Most H.264 video compression formats have the ability to be converted to an open source format using commercially available software. However, some video surveillance systems use software that is not commercially available. These are considered custom written or proprietary format systems. Although video monitoring systems using a proprietary format may have advantages in that the video files are less likely to be manipulated, these proprietary format systems limit NMFS' ability to store and review the output video imagery from several different systems. This is problematic because these different systems may be deployed on different vessels, and so absent this requirement NMFS would have to use different proprietary video software for each vessel's system. The video monitoring systems currently in use by all the vessels regulated by this final rule are able to output video data in an open source format that does not require NMFS to purchase specific proprietary video software. The final rule will not require one specified video format, such as H.264, because this may limit the types of video systems that could be used in this program and a specified video format may become outdated in a short period of time.

Comment 14: The proposed regulations at § 679.28(e)(1)(ii) require that video systems have at least one external Universal Serial Bus (USB) port using version 1.1 or 2.0. There are currently computers that are available that only offer USB ports with version 3.0. This regulation should be revised to include “USB 3.0” or remove the reference to specific versions of USB and allow any external USB port.

Response: NMFS agrees. The proposed regulations stated that the video system must have at least one external USB (1.1 or 2.0) port or other removable storage device approved by NMFS. Under the proposed rule the new industry standard USB 3.0 port would be covered because its use could be approved by NMFS. However, the commenter highlights the potential for confusion. To provide clarity, in this final rule NMFS has removed the reference to the version of USB port in the regulations at § 679.28(e)(1)(ii). With this change, the video system could have one external port using any current or future versions of USB, or any other removable storage devices that are approved by NMFS.

Comment 15: The commenter states that NMFS should consider including a minimum recording resolution for the proposed video monitoring requirements, such as 640 × 480 pixels. The proposed regulations specify that a video system must record at a speed of no less than 5 unique frames per second (FPS) at all times when the use of a video monitoring system is required (see regulations at § 679.28(e)(1)(vi)). The requirement to record at 5 unique FPS does not specify the resolution of the video image that is saved to the storage device. Without a minimum recording resolution requirement, it does not matter if images are recorded at 5 unique FPS because the quality of the image may not be adequate for review and storage.

Response: NMFS agrees and the regulations do require that the video system meet a performance standard for the recording resolution. This final rule does not specify one resolution standard because there are four different video monitoring programs, each with a different resolution need. These programs are the bin monitoring program for Amendment 80 vessels; video monitoring program on C/Ps and motherships in the BS pollock fishery, including CDQ; the video monitoring program for BSAI longline C/Ps; and the video monitoring program for flow scales. Each video monitoring program has a different monitoring objective, and a single recording resolution standard is not applicable to all of these video monitoring programs. Instead, each of these video monitoring programs describes qualitatively what the recorded resolution must be to meet the monitoring objectives. For example, regulations for BSAI longline C/Ps at § 679.28(k)(1)(i) state the video monitoring system must “Provide sufficient resolution and field of view to monitor all areas where Pacific cod are sorted from the catch, all fish passing over the motion-compensated scale, and all crew actions in these areas.” Other standards apply to other video monitoring programs.

Additionally, NMFS requires the vessels to identify their recording resolution on the Video Monitoring Inspection Request Form that must be submitted in order to conduct an inspection. This form and the qualitative description of the resolution for each system allow NMFS to determine if the video system will be approved.

Changes From the Proposed Rule

Eight changes to the regulations were made: Two were based on public comment and seven modify language to improve clarity of the regulations. First, in response to comment § 679.28(b)(5)(v) is changed to clarify that vessel operators that receive an at-sea scale inspection for a vessel after March 1, 2014, and before December 1, 2014, will have to comply with the calibration log requirements and fault log requirements at the time the flow scale is inspected by NMFS in 2015. All vessels that normally have their inspections completed in December 2014, and January 2015, must comply with the requirements of this final rule prior to fishing in 2015. Further discussion of this change can be found in the response to Comment 6. Second, in response to public comment, the final rule is changed at § 679.28(e)(1)(ii) to remove the specific version of USB port the video system must have. With this change, the video system could have one external port using any current or future versions of USB, or any other removable storage devices that are approved by NMFS. Further discussion of this change can be found in the response to Comment 14. Finally, editorial changes have been made to § 679.28(b)(5)(v), § 679.28(b)(5)(iii), § 679.28(b)(5)(iv), § 679.28(b)(8), § 679.28(e)(1), § 679.28(e)(1)(v), and § 679.28(e)(7) to clarify the regulations, but do not change the effect of the regulations.

OMB Revisions to Paperwork Reduction Act References in 15 CFR 902.1(b)

Section 3507(c)(B)(i) of the PRA requires that agencies inventory and display a current control number assigned by the Director, OMB, for each agency information collection. Section 902.1(b) identifies the location of NOAA regulations for which OMB approval numbers have been issued. Because this final rule revises and adds data elements within a collection-of-information for recordkeeping and reporting requirements, 15 CFR 902.1(b) is revised to reference correctly the sections resulting from this final rule.

Classification

Pursuant to section 305(d) of the Magnuson-Stevens Act, the NMFS Assistant Administrator has determined that this rule is consistent with the FMPs, other provisions of the Magnuson-Stevens Act, and other applicable law.

This final rule has been determined to be not significant for purposes of Executive Order 12866.

The Chief Council for Regulation of the Department of Commerce certified to the Chief Council for Advocacy of the Small Business Administration during the proposed rule stage that this action will not have a significant economic impact on a substantial number of small entities. The factual basis for the certification was published in the proposed rule and is not repeated here. No comments were received regarding this certification. As a result, a regulatory flexibility analysis was not required and none was prepared.

Collection-of-Information Requirements

This final rule contains collection-of-information requirements subject to the Paperwork Reduction Act (PRA) and which have been approved by the Office of Management and Budget (OMB). The collection-of-information requirements are presented below by OMB control number.

OMB Control No. 0648-0213

Public reporting burden is estimated to average 31 minutes per active response and 5 minutes per inactive response for Mothership Daily Cumulative Production Logbook (DCPL) (with this action the mothership DCPL is removed and is replaced by the mothership electronic logbook (ELB)); 30 minutes per active response and 5 minutes inactive response for C/P trawl gear DCPL; and 41 minutes per active response and 5 minutes per inactive response for C/P longline and pot gear DCPL.

OMB Control No. 0648-0330

Public reporting burden is estimated to average 45 minutes for daily record of flow scale test; 1 minute for printed reports from the calibration log; 1 minute for printed reports from the fault log; 6 minutes for request for inspection with a diagram, At-sea Scale; 2 hours for request for inspection with a diagram, Observer Sampling Station; 2 hours for request for inspection with a diagram, Flow Scale Video Monitoring System; 2 hours for request for inspection with a diagram, Freezer Longline Video Monitoring System; 2 hours for request for inspection with a diagram, Chinook Salmon Bycatch Video Monitoring System; 2 hours for request for inspection with a diagram, Bin Video Monitoring System; and 30 minutes to notify NMFS of Pacific cod Monitoring Option.

OMB Control No. 0648-0515

Public reporting burden is estimated to average 15 minutes per active response and 5 minutes per inactive response for C/P ELB (both trawl gear and longline or pot gear); and 15 minutes per active response and 5 minutes per inactive response for Mothership ELB.

Estimated responses include the time for reviewing instructions, searching existing data sources, gathering and maintaining the data needed, and completing and reviewing the collection of information. Send comments regarding these burden estimates or any other aspect of this data collection, including suggestions for reducing the burden, to NMFS (see ADDRESSES) and by email to OIRA_Submission@omb.eop.gov, or fax to 202-395-7285.

Notwithstanding any other provision of the law, no person is required to respond to, nor shall any person be subject to a penalty for failure to comply with, a collection of information subject to the requirements of the PRA, unless that collection of information displays a currently valid OMB control number. All currently approved NOAA collections of information may be viewed at: http://www.cio.noaa.gov/services_programs/prasubs.html.

List of Subjects

15 CFR Part 902

Reporting and recordkeeping requirements.

50 CFR Part 679

Alaska, Fisheries, Reporting and recordkeeping requirements.

Dated: November 6, 2014.
Samuel D. Rauch III,
Deputy Assistant Administrator for Regulatory Programs, National Marine Fisheries Service.

For the reasons set out in the preamble, NMFS amends 15 CFR part 902 and 50 CFR part 679 as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”:

a. Remove entries for “679.28(b), (c), (d), (e), (g), and (j)” and “679.28(k)”; and

b. Add entries in alphanumeric order for “679.28(b), (c), (d), (e), (g), (j), and (k)”.

The additions read as follows:

§ 902.1 OMB control numbers assigned pursuant to the Paperwork Reduction Act.

* * * * *

(b) * * *

CFR part or section where the information collection requirement is located | Current OMB control number (all numbers begin with 0648-)
* * * * *
50 CFR:
* * * * *
679.28 (b), (c), (d), (e), (g), (j), and (k) | −0330
* * * * *

PART 679—FISHERIES OF THE EXCLUSIVE ECONOMIC ZONE OFF ALASKA

3. The authority citation for part 679 continues to read as follows:

Authority: 16 U.S.C. 773 et seq.; 1801 et seq.; 3631 et seq.; Pub. L. 108-447.

4. In § 679.5, add paragraph (f)(1)(ix) to read as follows:

§ 679.5 Recordkeeping and reporting (R&R).

* * * * *

(f) * * *

(1) * * *

(ix) Catcher/processors and motherships required to weigh catch on NMFS-approved scales. Catcher/processors and motherships required to weigh catch on a NMFS-approved scale must use a NMFS-approved ELB. The vessel operator must ensure that each scale is tested as specified in § 679.28(b)(3) and that the following information from all scale tests, including failed tests, is reported within 24 hours of the testing using the ELB:

(A) The weight of test material from the observer platform scale;

(B) The total weight of the test material as recorded by the scale being tested;

(C) Percent error as determined by subtracting the known weight of the test material from the weight recorded on the scale being tested, dividing that amount by the known weight of the test material, and multiplying by 100; and

(D) The time, to the nearest minute A.l.t. when testing began.

* * * * *

5. In § 679.28,

a. Revise paragraphs (a), (b)(3) introductory text, (b)(3)(i)(B), (b)(3)(ii)(B)(2), and (b)(3)(iii)(B)(7);

b. Remove paragraph (b)(3)(iii)(C);

c. Add paragraphs (b)(5)(iii), (b)(5)(iv), and (b)(5)(v);

c. Revise paragraph (b)(6);

d. Add paragraph (b)(8); and

e. Revise paragraphs (b)(6), (d)(1), (d)(9)(i), (e), (i)(1)(ii) and (iii), (i)(3), (j), and (k).

The revisions and additons read as follows:

§ 679.28 Equipment and operational requirements.

(a) Applicability. This section contains the operational requirements for scales, observer sampling stations, vessel monitoring system hardware, catch monitoring and control plans, catcher vessel electronic logbook software, and video monitoring systems. The operator or manager must retain a copy of all records described in this section (§ 679.28) as indicated at § 679.5(a)(5) and (6) and make available the records upon request of NMFS observers and authorized officers as indicated at § 679.5(a)(5).

(b) * * *

(3) At-sea scale tests. To verify that the scale meets the MPEs specified in this paragraph (b)(3), the vessel operator must test each scale or scale system used by the vessel to weigh catch at least one time during each calendar day. No more than 24 hours may elapse between tests when use of the scale is required. The vessel owner must ensure that these tests are performed in an accurate and timely manner.

(i) * * *

(B) Test procedure. The vessel operator must conduct a material test by weighing no less than 400 kg of test material, supplied by the scale manufacturer or approved by a NMFS-authorized scale inspector, on the scale under test. The test material may be run across the scale multiple times in order to total 400 kg; however, no single batch of test material may weigh less than 40 kg. The known weight of the test material must be determined at the time of each scale test by weighing it on a platform scale approved for use under paragraph (b)(7) of this section.

(ii) * * *

(B) * * *

(2) Scales used to weigh catch. Test weights equal to the largest amount of fish that will be weighed on the scale in one weighment.

(iii) * * *

(B) * * *

(7) Signature of vessel operator.

* * * * *

(5) * * *

(iii) Printed reports from the calibration log. The vessel operator must print the calibration log on request by NMFS employees or any individual authorized by NMFS. The calibration log must be printed and retained by the vessel owner and operator before any information stored in the scale computer memory is replaced. The calibration log must detail either the prior 1,000 calibrations or all calibrations since the scale electronics were first put into service, whichever is less. The printout from the calibration log must show:

(A) The vessel name and Federal fisheries or processor permit number;

(B) The month, day, and year of the calibration;

(C) The time of the calibration to the nearest minute in A.l.t.;

(D) The weight used to calibrate the scale; and

(E) The magnitude of the calibration in comparison to the prior calibration.

(iv) Printed reports from the fault log. The vessel operator must print the fault log on request by NMFS employees or any individual authorized by NMFS. The fault log must be printed and retained by the vessel owner and operator before any information stored in the scale computer memory is replaced. The fault log must detail either the prior 1,000 faults and startups, or all faults and startups since the scale electronics were first put into service, whichever is less. A fault, for the purposes of the fault log, is any condition other than underflow detected by the scale electronics that could affect the metrological accuracy of the scale. The printout from the fault log must show:

(A) The vessel name and Federal fisheries or processor permit number;

(B) The month, day, year, and time of each startup to the nearest minute in A.l.t.;

(C) The month, day, year, and time that each fault began to the nearest minute in A.l.t.;

(D) The month, day, year, and time that each fault was resolved to the nearest minute in A.l.t.

(v) Calibration and log requirements for 2015 only. The owner and operator of a vessel with a scale used by the vessel crew to weigh catch that was approved after March 1, 2014, and before December 1, 2014, under § 679.28(b)(2) are not required to comply with the calibration log requirements at § 679.28(b)(5)(iii) or the fault log requirements at § 679.28(b)(5)(iv) until that scale is reapproved by a NMFS-authorized scale inspector in 2015.

(6) Scale installation requirements. The scale display must be readable from the location where the observer collects unsorted catch unless otherwise authorized by a NMFS-authorized scale inspector.

* * * * *

(8) Video monitoring for scales used by the vessel crew to weigh catch. The owner and operator of a vessel fishing for groundfish who are required to weigh catch under the regulations in this section must provide and maintain a NMFS-approved video monitoring system as specified in paragraph (e) of this section. Additionally, the system must:

(i) Provide sufficient resolution and field of view to monitor: All areas where catch enters the scale, moves across the scale and leaves the scale; any access point to the scale from which the scale may be adjusted or modified by vessel crew while the vessel is at sea; and the scale display and the indicator for the scale operating in a fault state.

(ii) Record and retain video for all periods when catch that must be weighed is on board the vessel.

* * * * *

(d) * * *

(1) Accessibility. All the equipment required for an observer sampling station must be available to the observer at all times while a sampling station is required and the observer is aboard the vessel, except that the observer sampling scale may be used by vessel personnel to conduct material tests of the scale used to weigh catch under paragraph (b)(3) of this section, as long as the use of the observer's sampling scale by others does not interfere with the observer's sampling duties.

* * * * *

(9) * * *

(i) How does a vessel owner arrange for an observer sampling station inspection? The vessel owner must submit an Inspection Request for Observer Sampling Station with all the information fields accurately filled in to NMFS by fax (206-526-4066) or emailing (station.inspections@noaa.gov) at least 10 working days in advance of the requested date of inspection. The request form is available on the NMFS Alaska Region Web site at http://alaskafisheries.noaa.gov.

* * * * *

(e) Video Monitoring System Requirements—(1) What requirements must a vessel owner and operator comply with for a video monitoring system? (i) The system must have sufficient data storage capacity to store all video data from an entire trip. Each frame of stored video data must record a time/date stamp in Alaska local time (A.l.t.).

(ii) The system must include at least one external USB port or other removable storage device approved by NMFS.

(iii) The system must output video files to an open source format or the vessel owner must provide software capable of converting the output video file to an open source format or commercial software must be available for converting the output video file to an open source format.

(iv) Color cameras must have at a minimum 470 TV lines of resolution, auto-iris capabilities, and output color video to the recording device with the ability to revert to black and white video output when light levels become too low for color recognition.

(v) The video data must be maintained by the vessel operator and made available on request by NMFS employees, or any individual authorized by NMFS. The data must be retained on board the vessel for no less than 120 days after the date the video is recorded, unless NMFS has notified the vessel operator that the video data may be retained for less than this 120-day period.

(vi) The system must record at a speed of no less than 5 unique frames per second at all times when the use of a video monitoring system is required.

(vii) NMFS employees, or any individual authorized by NMFS, must be able to view any video footage from any point in the trip using a 16-bit or better color monitor that can display all cameras simultaneously and must be assisted by crew knowledgeable in the operation of the system.

(viii) Unless exempted under paragraph (D) below, a 16-bit or better color monitor must be provided within the observer sampling station or at the location where the observer sorts and weighs samples. The monitor:

(A) Must have the capacity to display all cameras simultaneously;

(B) Must be operating when the use of a video monitoring system is required;

(C) Must be securely mounted at or near eye level;

(D) Is not applicable to longline C/Ps subject to § 679.100(b)(2).

(2) How does a vessel owner or operator arrange for NMFS to conduct a video monitoring system inspection? The vessel owner or operator must submit an Inspection Request for a Video Monitoring System to NMFS with all information fields accurately filled in at least 10 working days in advance of the requested date of inspection. The request form is available on the NMFS Alaska Region Web site (http://alaskafisheries.noaa.gov).

(3) What additional information is required for a video monitoring system inspection? (i) A diagram drawn to scale showing all sorting locations, the location of the motion-compensated scale, the location of each camera and its coverage area, and the location of any additional video equipment must be submitted with the Inspection Request for a Video Monitoring System form. Diagrams for C/Ps and motherships in the BSAI pollock fishery, including pollock CDQ, must include the location of the salmon storage container.

(ii) Any additional information requested by the Regional Administrator.

(4) Where will NMFS conduct video monitoring and bin monitoring system inspections? Inspections will be conducted on vessels tied to docks at Dutch Harbor, Alaska; Kodiak, Alaska; and in the Puget Sound area of Washington State.

(5) A video monitoring system is approved for use when NMFS employees, or any individual authorized by NMFS, completes and signs a Video Monitoring Inspection Report verifying that the video system meets all applicable requirements of this section.

(6) A vessel owner or operator must maintain a current NMFS-issued Video Monitoring System Inspection Report on board the vessel at all times the vessel is required to provide an approved video monitoring system. The Video Monitoring System Inspection Report must be made available to the observer, NMFS personnel, or to an authorized officer upon request.

(7) How does a vessel owner make a change to the video monitoring system? Any change to the video monitoring system that would affect the system's functionality must be submitted by a vessel owner to, and be approved by, the Regional Administrator in writing before that change is made.

* * * * *

(i) * * *

(1) * * *

(ii) Option 2—Line of sight option. From the observer sampling station, the location where the observer sorts and weighs samples, and the location from which the observer collects unsorted catch, an observer of average height (between 64 and 74 inches (140 and 160 cm)) must be able to see all areas of the bin or tank where crew could be located preceding the point where the observer samples catch. The observer must be able to view the activities of crew in the bin from these locations.

(iii) Option 3—Video monitoring system option. A vessel owner and operator must provide and maintain a NMFS-approved video monitoring system as specified in paragraph (e) of this section. Additionally, the vessel owner and operator must ensure that:

(A) All periods when fish are inside the bin are recorded and stored;

(B) The system provides sufficient resolution and field of view to see and read a text sample written in 130 point type (corresponding to line two of a standard Snellen eye chart) from any location within the tank where crew could be located.

* * * * *

(3) How does a vessel owner arrange for a bin monitoring option inspection? The owner must submit an Inspection Request for Bin Monitoring to NMFS with all the information fields filled in at least 10 working days in advance of the requested date of inspection. The request form is available on the NMFS Alaska Region Web site (http://alaskafisheries.noaa.gov).

* * * * *

(j) Video monitoring on catcher/processors and motherships in the BS pollock fishery, including pollock CDQ. The owner and operator of a catcher/processor or a mothership must provide and maintain a video monitoring system approved under paragraph (e) of this section. These video monitoring system requirements must be met when the catcher/processor is directed fishing for pollock in the BS, including pollock CDQ, and when the mothership is taking deliveries from catcher vessels directed fishing for pollock in the BS, including pollock CDQ. Additionally, the system must—

(1) Record and retain video for all periods when fish are flowing past the sorting area or salmon are in the storage container.

(2) The system must provide sufficient resolution and field of view to observe all areas where salmon are sorted from the catch, all crew actions in these areas, and discern individual fish in the salmon storage container.

(k) Video monitoring in the longline catcher/processor subsector. The owner and operator of a catcher/processor subject to § 679.100(b)(2) must provide and maintain a video monitoring system approved under paragraph (e) of this section. These video monitoring system requirements must be met when the vessel is operating in either the BSAI or GOA groundfish fisheries when directed fishing for Pacific cod is open in the BSAI, or while the vessel is groundfish CDQ fishing. Additionally, the system must:

(1) Record and retain video for all periods when Pacific cod are being sorted and weighed.

(2) Provide sufficient resolution and field of view to monitor all areas where Pacific cod are sorted from the catch, all fish passing over the motion-compensated scale, and all crew actions in these areas.

6. In § 679.100, revise paragraphs (b) introductory text and (b)(2)(i)(D) and remove paragraph (d).

The revisions read as follows:

§ 679.100 Applicability.

* * * * *

(b) Monitoring option selection. The owner of a vessel subject to this subpart that does not opt out under paragraph (a) of this section must submit a completed notification form for one of two monitoring options to NMFS. The notification form is available on the NMFS Alaska Region Web site (http://alaskafisheries.noaa.gov/). The vessel owner must comply with the selected monitoring option at all times when the vessel is operating in either the BSAI or GOA groundfish fisheries when directed fishing for Pacific cod is open in the BSAI, or while the vessel is groundfish CDQ fishing. If NMFS does not receive a notification to opt out or a notification for one of the two monitoring options, NMFS will assign that vessel to the increased observer coverage option under paragraph (b)(1) of this section until the notification form has been received by NMFS.

* * * * *

(2) * * *

(i) * * *

(D) The vessel is in compliance with the video monitoring requirements described at § 679.28(k).

* * * * *

[FR Doc. 2014-27081 Filed 11-17-14; 8:45 am]

BILLING CODE 3510-22-P